DEPARTMENT OF ENERGY

Office of Fossil Energy

[FE Docket No. 00-80-NG, et al.]

Koch Energy Trading, Inc., et al.; Orders Granting, Amending, Transferring and Vacating Authority to Import and Export Natural Gas

AGENCY: Office of Fossil Energy, DOE.

ACTION: Notice of orders.

SUMMARY: The Office of Fossil Energy (FE) of the Department of Energy gives notice that during November 2000, it issued Orders granting, amending, transferring and vacating authority to import and export natural gas. These Orders are summarized in the appendix and may be found on the FE website at http://www.fe.doe.gov, or on the electronic bulletin board at (202) 586-7853. They are also available for inspection and copying in the Office of Natural Gas & Petroleum Import & Export Activities, Docket Room 3E-033, Forrestal Building, 1000 Independence Avenue, S.W., Washington, DC 20585, (202) 586-9478. The docket room is open between the hours of 8:00 a.m. and 4:30 p.m., Monday through Friday, except Federal holidays.

Issued in Washington, DC, on December 4, 2000.
John W. Glynn,
Manager, Natural Gas Regulation, Office of Natural Gas & Petroleum, Import & Export Activities, Office of Fossil Energy.

Appendix—Orders Granting, Amending, Transferring and Vacating Import/Export Authorizations
Order No. | Date issued | Importer/Exporter FE Docket No. | Import volume | Export volume | Comments
1639 | 11/02/00 | Kock Energy Trading, Inc. 00-80-NG | 73 Bef |  | Import from Canada beginning on November 3, 2000, and extending through November 2, 2002.
1464-A | 11/02/00 | Powerex Corp. 99-12-NG |  |  | Errata to correct order no.
1640 | 11/03/00 | Enron LNG Marketing LLC 00-74-LNG | 300 Bcf |  | Import LNG from international sources not subject to trading sanctions over a two-year term beginning on the date of first delivery.
1641 | 11/06/00 | Energy West Resources, Inc. 00-83-NG | 30 Bcf |  | Import and export a combined total from and to Canada over a two-year term beginning on first delivery after November 12, 2000.
1642 | 11/08/00 | Tristar Gas Marketing Company 00-85-NG | 10 Bcf | 20 Bcf | Import from Canada and import and export combined total from and to Mexico beginning on April 2, 2000, and extending through March 31, 2002.
1643 | 11/08/00 | Sceptre Energy Inc. 00-70-NG | 50 Bcf |  | Import from Canada over a two-year term beginning on the date of first delivery.
1644 | 11/09/00 | Cordeca Corporation 00-86-NG | 60 Bcf |  | Import from Canada beginning on November 13, 2000, and extending through November 12, 2002.
1645 | 11/09/00 | Alliance Canada Marketing L.P. 00-87-NG | 30 Bcf |  | Import from Canada beginning on November 13, 2000, and extending through November 12, 2002.
1646 | 11/15/00 | Distrigas LLC 00-79-LNG | 100 Bcf |  | Import from various international sources over a two-year term beginning on first delivery after November 30, 2000.
1647 | 11/15/00 | Vector Pipeline L.P. 00-89-NG |  | 10 Bcf | Export to Canada beginning on November 15, 2000, and extending through November 14, 2002.
1648 | 11/16/00 | Hess Energy Services Company, LLC 00-76-NG |  | 60 Bcf | Export to Canada beginning on December 22, 2000, and extending through December 21, 2002.
1649 | 11/16/00 | Hess Energy Services Company, LLC 00-77-NG | 60 Bcf |  | Import from Canada beginning on December 22, 2000, and extending through December 21, 2002.
1650 | 11/16/00 | BC Gas Utility Ltd. 00-82-NG | 35 Bcf | 35 Bcf | Import and export from and to Canada beginning on December 19, 2000, and extending through December 18, 2002.
991-A | 11/17/00 | Engage Energy Canada, L.P., (The Successor to Westcoast Gas Services Inc.) 94-73-NG |  |  | Transfer of long-term import authority.
1651 | 11/17/00 | Midland Cogeneration Venture Limited Partnership 00-84-NG | 400 Bcf |  | Import and export a combined total over a two-year term beginning on the date of first delivery.
1202-B | 11/20/00 | Engage Energy America Corp. (Succesor to Westcoast Gas Services Delaware (America) Inc.) 96-52-NG |  |  | Transfer of long-term import authority.
1128-B | 11/20/00 | Engage Energy America Corp. (Successor to Westcoast Gas Services Delaware (America) Inc.) 95-104-NG |  |  | Transfer of long-term import authority.
1332-B | 11/20/00 | Engage Energy America Corp. (Successor to Westcoast Gas Services Delaware (America) Inc.) 97-48-NG |  |  | Transfer of long-term import authority.
1253-B | 11/20/00 | Engage Energy America Corp. (Successor to Westcoast Gas Services Delaware (America) Inc. 97-03-NG |  |  | Transfer of long-term import authority.
1282-B | 11/20/00 | Engage Energy America Corp. (Successor to Westcoast Gas Services Delaware (America) Inc.) 97-37-NG |  |  | Transfer of long-term import authority.
1275-B | 11/20/00 | Engage Energy America Corp. (Successor to Westcoast Gas Services Delaware (America) Inc.) 97-36-NG |  |  | Transfer of long-term import authority.
1652 | 11/20/00 | Coastal Merchant Energy, L.P. 00-88-NG | 600 Bcf | 150 Bcf | Import a combined total from Canada and Mexico, and export a combined total to Canada and Mexico, beginning on October 3, 2000, and extending through October 2, 2002.
1617-A | 11/20/00 | Engage Energy US, L.P. 00-56-NG |  |  | Vacating blanket import and export authority.
1653 | 11/21/00 | El Paso Merchant Energy—Gas, L.P. 00-90-LNG | 200 Bcf |  | Import from various international sources over a two-year term beginning on the date of first delivery.
1654 | 11/29/00 | Nexen Marketing U.S.A. Inc. 00-91-NG | 200 Bcf |  | Import and export a combined total from and to Canada and Mexico, beginning on January 1, 2001, and extending through December 31, 2002.
1655 | 11/29/00 | Berkley Petroleum Corp. 00-92-NG | 20 Bcf |  | Import from Canada beginning on December 1, 2000, and extending through November 30, 2002.
1622-A | 11/30/00 | Engage Energy America Corp. (Formerly Westcoast Gas Services Delaware (America) Inc.) 00-58-NG |  |  | Amendment to blanket import authority changing name of company.

[FR Doc. 00-31715 Filed 12-12-00; 8:45 am]

BILLING CODE 6450-01-P